ENVIRONMENTAL PROTECTION AGENCY

[FRL-6940-9]

Agency Information Collection Activities: Continuing Collection; Comment Request; Annual Public Water Systems Compliance Report

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Annual Public Water Systems Compliance Report, EPA ICR number 1812.02, OMB Control Number 2040-0186. The current ICR expires March 31, 2001. Before submitting the ICR to OMB for review and approval, EPA is soliciting comments on specific aspects of the proposed information collection as described below.

DATES: Comments must be submitted on or before April 6, 2001.

ADDRESSES: United States Environmental Protection Agency; Compliance Assistance and Sector Programs Division (2224A); 1200 Pennsylvania Avenue, NW.; Washington, DC 20460. A hard copy of an ICR may be obtained without charge by calling the identified information contact individual for each ICR in Section B of the Supplementary Information.

FOR FURTHER INFORMATION CONTACT: Ken Harmon, (202) 564-7049, fax (202) 564-7083, E-mail harmon.kenneth@epa.gov, and refer to ICR No. 1812.01.

SUPPLEMENTARY INFORMATION: Affected entities: States, Tribes, and territories that have primary enforcement authority and meet the definition of “state” under the Safe Drinking Water Act (Act).

Title: Annual Public Water Systems Compliance Report, EPA ICR number 1812.02, OMB Control Number 2040-0186. The current ICR expires March 31, 2001.

Abstract: Section 1414 (c)(3)(A) of the Safe Drinking Water Act requires that each state that has primary enforcement authority under the Act shall prepare, make readily available to the public, and submit to the Administrator of EPA, an annual report of violations of national primary drinking water regulations in the state. The states' reports are to include violations of maximum contaminant levels, treatment requirements, variances and exemptions, and monitoring requirements determined to be significant by the Administrator after consultation with the states. Section 1414(c)(3)(B) of the Safe Drinking Water Act requires EPA to prepare and make available to the public an annual report that summarizes and evaluates the reports submitted by the states pursuant to Section 1414(c)(3)(A). EPA's annual national report must also provide specified information about implementation of the public water system supervision system on Indian reservations and make recommendations concerning the resources necessary to improve compliance with the Safe Drinking Water Act. The States have already prepared and published three annual reports. EPA has prepared three national reports and published two. The third annual national report has been prepared and its publication is pending.

An agency may not conduct or sponsor, and a person is not required to respond to, a collection of information unless it displays a currently valid OMB control number. The OMB control numbers for EPA's regulations are listed in 40 CFR part 9 and 48 CFR chapter 15. In an effort to minimize a state's burden in preparing its annual statutorily-required report, EPA issued guidance that explains what Section 1414(c)(3)(A) requires and provides model language and reporting templates. EPA also annually makes available to the states a computer query that generates for each state (from information states are already required to submit to EPA's national database on a quarterly basis) the required violations information in a table consistent with the reporting template in EPA's guidance.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 208 hours for annual response. The number of respondents is 54 states, commonwealths and territories. The estimated total annual hour burden is 11,232 hours. The estimated total annualized cost burden is $669,400. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 26, 2001.
Karin Leff,
Acting Director, Compliance Assistance and Sector Programs Division.

[FR Doc. 01-2973 Filed 2-2-01; 8:45 am]

BILLING CODE 6560-50-P